DEPARTMENT OF TRANSPORTATION

Federal Aviation Administration

14 CFR Part 39

[Docket No. FAA-2011-0233; Directorate Identifier 98-ANE-10-AD; Amendment 39-16660; AD 2011-08-10]

RIN 2120-AA64

Airworthiness Directives; Rolls-Royce plc (RR) RB211-Trent 768-60 and Trent 772-60 Turbofan Engines

AGENCY: Federal Aviation Administration (FAA), DOT.

ACTION: Final rule; request for comments.

SUMMARY: We are superseding an existing airworthiness directive (AD) for RR RB211-Trent 700 series turbofan engines. That AD currently requires, for the step aside gearbox (SAGB), repositioning of the oil metering jet up into the oil distributor within the bevel gearshaft, followed by initial and repetitive visual inspections of the magnetic chip detector (MCD). Since we issued that AD, RR has demonstrated that the repositioning of the oil metering jet eliminates the need for the repetitive inspections. This AD changes the applicability from RB211-Trent 700 series turbofan engines, to RB211-Trent 768-60 and Trent 772-60 turbofan engines. This AD also eliminates the visual inspections of the MCD from the AD requirements. This AD was prompted by RR demonstrating that the repositioning of the oil metering jet eliminates the need for the repetitive inspections, by the need to correct the AD applicability, and by the need to eliminate the visual inspections of the MCD. We are issuing this AD to prevent in-flight engine shutdowns caused by SAGB driving bevel gearshaft ball bearing failure.

DATES: This AD is effective April 27, 2011.

The Director of the Federal Register previously approved the incorporation by reference of a certain publication listed in this AD as of October 1, 1998 (63 FR 49416, September 16, 1998).

We must receive any comments on this AD by May 27, 2011.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this AD, contact Rolls-Royce plc, P.O. Box 31, Derby, DE24 8BJ, United Kingdom; telephone 44 1332 242424; fax 44 1332 249936; e-mail: tech.help@rolls-royce.com. You may review copies of the referenced service information at the FAA, Engine & Propeller Directorate, 12 New England Executive Park, Burlington, MA. For information on the availability of this material at the FAA, call 781-238-7125.

Examining the AD Docket

You may examine the AD docket on the Internet at http://www.regulations.gov; or in person at the Docket Management Facility between 9 a.m. and 5 p.m., Monday through Friday, except Federal holidays. The AD docket contains this AD, the regulatory evaluation, any comments received, and other information. The street address for the Docket Office (phone: 800-647-5527) is in the ADDRESSES section. Comments will be available in the AD docket shortly after receipt.

FOR FURTHER INFORMATION CONTACT: Alan Strom, Aerospace Engineer, Engine Certification Office, FAA, Engine & Propeller Directorate, 12 New England Executive Park, Burlington, MA 01803; telephone 781-238-7143; fax 781-238-7199; e-mail: alan.strom@faa.gov.

SUPPLEMENTARY INFORMATION:

Discussion

On September 8, 1998, we issued AD 98-19-12, Amendment 39-10754 (63 FR 49416, September 16, 1998), for RR RB211-Trent 700 series turbofan engines. That AD requires, for the SAGB, repositioning of the oil metering jet up into the oil distributor within the bevel gearshaft, followed by initial and repetitive visual inspections of the MCD. That AD resulted from reports of uncommanded engine shutdowns caused by failure of the SAGB driving bevel gearshaft ball bearing due to oil starvation. We issued that AD to prevent in-flight engine shutdowns caused by SAGB driving bevel gearshaft ball bearing failure.

Actions Since AD Was Issued

Since we issued AD 98-19-12, RR has demonstrated that the repositioning of the oil metering jet eliminates the need for the repetitive inspections. Also, since we issued that AD, Rolls Royce put into service, its RB211-Trent 772B-60 model turbofan engine, which does not have the unsafe condition that AD sought to correct. Since the AD applicability states that it is for RB211-Trent 700 series turbofan engines, that applicability includes the RB211-Trent 772B-60 engines, and it shouldn't.

FAA's Determination

We are issuing this AD because we evaluated all the relevant information and determined the unsafe condition described previously is likely to exist or develop in other products of the same type design.

AD Requirements

This AD retains the oil metering jet repositioning requirements of AD 98-19-12. This AD also eliminates the initial and repetitive visual inspections of the MCD, required by AD 98-19-12. This AD also corrects the applicability from RB211-Trent 700 series turbofan engines, to, RB211-Trent 768-60 turbofan engines prior to serial No. 41052, and RB211-Trent 772-60 turbofan engines prior to serial No. 41052.

FAA's Justification and Determination of the Effective Date

Since no domestic operators use RB211-Trent 768-60 or RB211-Trent 772-60 turbofan engines, we find that notice and opportunity for prior public comment are unnecessary and that good cause exists for making this amendment effective in less than 30 days.

Comments Invited

This AD is a final rule that involves requirements affecting flight safety, and we did not provide you with notice and an opportunity to provide your comments before it becomes effective. However, we invite you to send any written data, views, or arguments about this AD. Send your comments to an address listed under the ADDRESSES section. Include the docket number FAA-2011-0233 and Directorate Identifier 98-ANE-10-AD at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Costs of Compliance

We estimate that this AD affects no engines installed on airplanes of U.S. registry. The elimination of visual inspection requirements by this AD, adds no additional economic burden.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by removing airworthiness directive (AD) 98-19-12, Amendment 39-10754 (63 FR 49416, September 16, 1998), and adding the following new AD:

2011-08-10 Rolls-Royce plc: Amendment 39-16660; Docket No. FAA-2011-0233; Directorate Identifier 98-ANE-10-AD.

Effective Date

(a) This AD is effective April 27, 2011.

Affected ADs

(b) This AD supersedes AD 98-19-12, Amendment 39-10754.

Applicability

(c) This AD applies to Rolls-Royce plc (RR) RB211-Trent 768-60 turbofan engines prior to serial No. 41052, and RB211-Trent 772-60 turbofan engines prior to serial No. 41052.

Unsafe Condition

(d) This AD was prompted by RR demonstrating that the repositioning of the oil metering jet eliminates the need for the repetitive inspections, by the need to correct the AD applicability, and by the need to eliminate the visual inspections of the MCD. We are issuing this AD to prevent in-flight engine shutdowns caused by step aside gearbox (SAGB) driving bevel gearshaft ball bearing failure.

Compliance

(e) Comply with this AD before further flight, unless already done.

Repositioning of the Oil Metering Jet

(f) Reposition the oil metering jet up into the oil distributor within the bevel gearshaft, using RR Service Bulletin No. RB.211 72-C270, dated June 1, 1997.

Alternative Methods of Compliance (AMOCs)

(g) The Manager, Engine Certification Office, FAA, has the authority to approve AMOCs for this AD, if requested using the procedures found in 14 CFR 39.19.

Related Information

(h) For more information about this AD, contact Alan Strom, Aerospace Engineer, Engine Certification Office, FAA, Engine & Propeller Directorate, 12 New England Executive Park, Burlington, MA 01803; telephone 781-238-7143; fax 781-238-7199; e-mail: alan.strom@faa.gov.

Material Incorporated by Reference

(i) You must use Rolls-Royce plc Service Bulletin No. RB.211 72-C270, dated June 1, 1997, to do the actions required by this AD.

(1) The Director of the Federal Register previously approved the incorporation by reference of this service information under 5 U.S.C. 552(a) and 1 CFR part 51, as of October 1, 1998 (63 FR 49416, September 16, 1998).

(2) For service information identified in this AD, contact Rolls-Royce plc, P.O. Box 31, Derby, DE24 8BJ, United Kingdom; telephone 44 1332 242424; fax 44 1332 249936; e-mail: tech.help@rolls-royce.com.

(3) You may review copies at the FAA, New England Region, 12 New England Executive Park, Burlington, MA; or at the National Archives and Records Administration (NARA). For information on the availability of this material at NARA, call 202-741-6030, or go to: http://www.archives.gov/federal-register/cfr/ibr-locations.html. For information on the availability of this material at the FAA, call 781-238-7125.

Issued in Burlington, Massachusetts, on April 5, 2011.
Peter A. White,
Acting Manager, Engine & Propeller Directorate, Aircraft Certification Service.

[FR Doc. 2011-8469 Filed 4-11-11; 8:45 am]

BILLING CODE 4910-13-P